DEPARTMENT OF TRANSPORTATION

Federal Aviation Administration

14 CFR Part 39

[Docket No. FAA-2005-20628; Directorate Identifier 2004-NM-51-AD; Amendment 39-14529; AD 2006-07-02]

RIN 2120-AA64

Airworthiness Directives; Bombardier Model DHC-8-301, -311, and -315 Airplanes

AGENCY: Federal Aviation Administration (FAA), Department of Transportation (DOT).

ACTION: Final rule.

SUMMARY: The FAA is adopting a new airworthiness directive (AD) for certain Bombardier Model DHC-8-301, -311, and -315 airplanes. This AD requires replacing the pressure control valve of the Type 1 emergency door. This AD results from reports that the pressure control valve of the Type 1 emergency door is susceptible to freezing. We are issuing this AD to ensure that the pressure control valve does not freeze and prevent the door seal from deflating, which could result in the inability to open the door in an emergency.

DATES: This AD becomes effective May 4, 2006.

The Director of the Federal Register approved the incorporation by reference of a certain publication listed in the AD as of May 4, 2006.

ADDRESSES: You may examine the AD docket on the Internet at http://dms.dot.gov or in person at the Docket Management Facility, U.S. Department of Transportation, 400 Seventh Street, SW., Nassif Building, room PL-401, Washington, DC.

Contact Bombardier, Inc., Bombardier Regional Aircraft Division, 123 Garratt Boulevard, Downsview, Ontario M3K 1Y5, Canada, for service information identified in this AD.

FOR FURTHER INFORMATION CONTACT: Ezra Sasson, Aerospace Engineer, Systems and Flight Test Branch, ANE-172, FAA, New York Aircraft Certification Office, 1600 Stewart Avenue, suite 410, Westbury, New York 11590; telephone (516) 228-7320; fax (516) 794-5531.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Bombardier Model DHC-8-301, -311, and -315 airplanes. That NPRM was published in the Federal Register on March 17, 2005 (70 FR 12981). That NPRM proposed to require replacing the pressure control valve of the Type 1 emergency door.

Comments

We provided the public the opportunity to participate in the development of this AD. We have considered the comments from the single commenter that have been received on the NPRM.

Request To Reference Parts Manufacturer Approval (PMA) Parts

The commenter, Modification and Replacement Parts Association (MARPA), requests that the language in the NPRM be changed to permit installation of PMA equivalent parts.

We infer that MARPA would like the AD to permit installation of any equivalent PMA parts so that it is not necessary for an operator to request approval of an alternative method of compliance (AMOC) in order to install an “equivalent” PMA part. Whether an alternative part is “equivalent” in adequately resolving the unsafe condition can only be determined on a case-by-case basis based on a complete understanding of the unsafe condition. We are not currently aware of any such parts. Our policy is that, in order for operators to replace a part with one that is not specified in the AD, they must request an AMOC. This is necessary so that we can make a specific determination that an alternative part is or is not susceptible to the same unsafe condition.

The AD provides a means of compliance for operators to ensure that the identified unsafe condition is addressed appropriately. For an unsafe condition attributable to a part, the AD normally identifies the replacement parts necessary to obtain that compliance. As stated in section 39.7 of the Federal Aviation Regulations (14 CFR 39.7), “Anyone who operates a product that does not meet the requirements of an applicable airworthiness directive is in violation of this section.” Unless an operator obtains approval for an AMOC, replacing a part with one not specified by the AD would make the operator subject to an enforcement action and result in a civil penalty. No change to the final rule is necessary in this regard.

Request To Address Defective PMA Parts

MARPA also requests that the NPRM be changed to identify affected defective parts by manufacturer name and part number, as well as by Bombardier part number, so that defective PMA parts are also subject to the proposed AD. MARPA notes that “it is possible that alternative parts approved under Canadian MOT PDA provisions or FAA PMA (14 CFR 21.303(a)) provisions may exist.” MARPA states that PMA manufacturers are encouraged to identify PMA parts by alternative designations different from the original equipment manufacturer (OEM) parts for which they are approved replacements. Therefore, MARPA asserts that a regulatory loophole is created if a “defective” PMA part is installed, because only the OEM part will be identified in the manufacturer service information.

We concur with the MARPA's general request that, if we know that an unsafe condition also exists in PMA parts, the AD should address those parts, as well as the original parts. However, as we stated previously, we are not aware of any such parts relating to this AD. MARPA's remarks are timely in that the Transport Airplane Directorate currently is in the process of reviewing this issue as it applies to transport category airplanes. We acknowledge that there may be other ways of addressing this issue to ensure that unsafe PMA parts are identified and addressed. Once we have thoroughly examined all aspects of this issue, including input from industry, and have made a final determination, we will consider whether our policy regarding addressing PMA parts in ADs needs to be revised. We consider that to delay this AD action would be inappropriate, since we have determined that an unsafe condition exists and that replacement of certain parts must be accomplished to ensure continued safety. Therefore, no change has been made to the final rule in this regard.

Addition of New Service Information

Since we issued the NPRM, we have received Revision A of Bombardier Service Bulletin 8-52-60, dated April 28, 2003. This service bulletin was issued to update Material—Price and Availability information and to inform operators that Bombardier Drawing 8Z4036, listed as a reference, was revised to show a new orientation of one bracket and clamp on View C-C. We have revised paragraph (f) of the final rule to reference Revision A of the service bulletin, added a new paragraph (g) to give operators credit for accomplishing the required actions before the effective date of the AD, and re-identified subsequent paragraphs accordingly.

Clarification of AMOC Paragraph

We have revised this action to clarify the appropriate procedure for notifying the principal inspector before using any approved AMOC on any airplane to which the AMOC applies.

Conclusion

We have carefully reviewed the available data, including the comments received, and determined that air safety and the public interest require adopting the AD with the changes described previously. We have determined that these changes will neither increase the economic burden on any operator nor increase the scope of the AD.

Costs of Compliance

This AD will affect about 13 airplanes of U.S. registry. The required actions will take about 6 work hours per airplane, at an average labor rate of $65 per work hour. Required parts will cost about $700 per airplane. Based on these figures, the estimated cost of the AD for U.S. operators is $14,170, or $1,090 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-07-02 Bombardier, Inc. (Formerly de Havilland, Inc.): Amendment 39-14529. Docket No. FAA-2005-20628; Directorate Identifier 2004-NM-51-AD.

Effective Date

(a) This AD becomes effective May 4, 2006.

Affected ADs

(b) None.

Applicability

(c) This AD applies to Bombardier Model DHC-8-301, -311, and -315 airplanes, certificated in any category, serial numbers 100 through 593 inclusive.

Unsafe Condition

(d) This AD results from reports that the pressure control valve of the Type 1 emergency door is susceptible to freezing. We are issuing this AD to ensure that the pressure control valve does not freeze and prevent the door seal from deflating, which could result in the inability to open the door in an emergency.

Compliance

(e) You are responsible for having the actions required by this AD performed within the compliance times specified, unless the actions have already been done.

Replace Pressure Control Valve

(f) Within 30 months after the effective date of this AD, replace the pressure control valve of the Type 1 emergency door by incorporating ModSum 8Q101159 in accordance with the Accomplishment Instructions of Bombardier Service Bulletin 8-52-60, Revision A, dated April 28, 2003.

Replacement According to Previous Issue of Service Bulletin

(g) Replacing the pressure control valve of the Type 1 emergency door is also acceptable for compliance with the requirements of paragraph (f) of this AD if done before the effective date of this AD in accordance the Accomplishment Instructions of Bombardier Service Bulletin 8-52-60, dated August 28, 2002.

Alternative Methods of Compliance (AMOCs)

(h)(1) The Manager, New York Aircraft Certification Office, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(i) Canadian airworthiness directive CF-2003-04, dated February 3, 2003, also addresses the subject of this AD.

Material Incorporated by Reference

(j) You must use Bombardier Service Bulletin 8-52-60, Revision A, dated April 28, 2003, to perform the actions that are required by this AD, unless the AD specifies otherwise. The Director of the Federal Register approved the incorporation by reference of this document in accordance with 5 U.S.C. 552(a) and 1 CFR part 51. Contact Bombardier, Inc., Bombardier Regional Aircraft Division, 123 Garratt Boulevard, Downsview, Ontario M3K 1Y5, Canada, for a copy of this service information. You may review copies at the Docket Management Facility, U.S. Department of Transportation, 400 Seventh Street, SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on March 17, 2006.
Ali Bahrami,
Manager, Transport Airplane Directorate, Aircraft Certification Service.

[FR Doc. 06-2960 Filed 3-29-06; 8:45 am]

BILLING CODE 4910-13-U